NATIONAL SCIENCE FOUNDATION

Astronomy and Astrophysics Advisory Committee #13883; Notice of Meeting

In accordance with the Federal Advisory Committee Act (Pub. L. 92-463, as amended), the National Science Foundation announces the following meeting:

Name: Astronomy and Astrophysics Advisory Committee (#13883).

Date and Time: March 5, 2009, 2 p.m.-4 p.m. EDT.

Place: Teleconference.

National Science Foundation, Room 1060, Stafford I Building, 4201 Wilson Blvd., Arlington, VA, 22230.

Type of Meeting: Open.

Contact Person: Dr. Craig B. Foltz, Acting Division Director, Division of Astronomical Sciences, Suite 1045, National Science Foundation, 4201 Wilson Blvd., Arlington, VA 22230. Telephone: 703-292-4908.

Reason for Late Notice: Due to scheduling complications. At the last meeting, February 19, it was decided that another meeting via teleconference was required to review the draft annual report before the March 15 submission.

Purpose of Meeting: To provide advice and recommendations to the National Science Foundation (NSF), the National Aeronautics and Space Administration (NASA) and the U.S. Department of Energy (DOE) on issues within the field of astronomy and astrophysics that are of mutual interest and concern to the agencies.

Agenda: To discuss the Committee's draft annual report due 15 March 2009.

Dated: February 24, 2009.
Susanne E. Bolton,
Committee Management Officer.

[FR Doc. E9-4188 Filed 2-26-09; 8:45 am]

BILLING CODE 7555-01-P